DEPARTMENT OF DEFENSE

Department of the Navy

Notice of Intent To Prepare a Programmatic Environmental Impact Statement (PEIS) for the Proposed Geothermal Development Program, Naval Air Facility El Centro, Imperial County, CA and To Announce Public Scoping Meetings

AGENCY: Department of the Navy, DoD.

ACTION: Notice.

SUMMARY: Pursuant to section (102)(2)(c) of the National Environmental Policy Act (NEPA) of 1969, the regulations implemented by the Council on Environmental Quality (40 CFR parts 1500-1508), and the Department of the Navy NEPA regulation (32 CFR part 775), the Department of the Navy (Navy) announces its intent to prepare a Programmatic Environmental Impact Statement (PEIS) for a proposed geothermal development program, which would include potential development and utilization of geothermal resources located beneath approximately 3,110 acres of Navy lands at Naval Air Facility (NAF) El Centro, California in the Superstition Mountain area in western Imperial County, California (the “Project Area”). The Project Area incorporates a very small portion of the Target 101 Shade Tree area which is located 8 miles northwest of NAF El Centro. The geothermal development program would potentially include field exploration, field development, resource utilization, and field closure.

The study will encompass a 2,830-acre parcel of adjacent Department of Interior; Bureau of Land Management (BLM) managed land as necessary to support the proposed Navy action. The BLM will be a cooperating agency in preparing this PEIS. Development of geothermal resources beneath Navy lands in the Project Area would be accomplished by means of a public-private venture capital arrangement between the Navy and an energy developer. Geothermal development will occur after completion of additional site-specific environmental analysis under NEPA.

The Navy will hold public scoping meetings for the purpose of further identifying the scope of issues to be addressed in the PEIS. Federal, State, and local agencies and the public that may be interested in or affected by the Navy's decision for the proposed action are invited to participate in the scoping process for the PEIS. Comments are being solicited to help identify significant issues or concerns related to the proposed action, determine the scope of issues to be addressed in the PEIS, and identify and refine alternatives to the proposed action.

DATES: The Navy will conduct public scoping meetings in El Centro, CA and San Diego, CA to encourage and facilitate public participation in the PEIS process and to receive oral and/or written comments. The public scoping meetings will be conducted in English and will be held in an open house format with a brief presentation to describe the proposed action, geothermal development, anticipated environmental impacts, and the PEIS process. Navy representatives will be available to answer questions. Both comment sheets and a recorder will be made available to document individual comments received at the public scoping meetings scheduled below:

1. Wednesday, May 28, 2008, 6 p.m. to 8 p.m., County Center II, 2895 S. Fourth Street, Room B, El Centro, CA;

2. Thursday, May 29, 2008, 6 p.m. to 8 p.m., Handlery Hotel and Resort, 950 Hotel Circle North, Crystal Ballroom, San Diego, CA.

The time and location of the public scoping meetings will be announced in the local news media. The public scoping period will extend for 60 days after the publication of this notice, from May 5 to July 5, 2008.

FOR FURTHER INFORMATION CONTACT: Mr. Steven Bjornstad, Geothermal Program Office (ESC-25), Naval Air Weapons Station, 429 East Bowen Road, Mail Stop 4011, China Lake, CA 93555-6108, telephone: 760-939-4048, fax: 760-939-2449, E-mail: steven.bjornstad@navy.mil.

SUPPLEMENTARY INFORMATION: The purpose of the proposed action is to initiate a geothermal development program to produce electricity from non-hydrocarbon based power generation on Navy lands. The need for the action arises from national policy and Congressional direction. Strong rationale supports development of a secure, low-cost energy supply for military bases to cope with energy shortages and forced allocations of fossil fuel resources without affecting mission capability. The proposed action is to initiate a geothermal development program on Navy lands in the Project Area. The proposed action would not involve any specific surface disturbance in the Project Area. Geothermal development would only occur after completion of additional site-specific environmental analysis under NEPA.

Based upon available geothermal development results in the surrounding area and field investigation research conducted at the site (including geophysical, geological, geochemical and petrophysical field data acquisition and analysis), the Navy assumes that geothermal development would not exceed 35 megawatts (MW) of electrical power generation. Additional geothermal development to increase power generation beyond 35 MW is not anticipated, but if proposed, will be covered in subsequent site-specific environmental analysis under NEPA.

Development of a geothermal facility to generate 35 MW of electrical power would require drilling up to 18 production and injection wells from multi-well pads. It is anticipated that 30 acres of land for well pads, 41 acres for roads, 6 acres for pipelines, 7 acres for the power plant, and 121 acres for transmission lines (totaling 205 acres) would be disturbed as a result of development of such a facility. Again, additional site-specific NEPA analysis, subsequent to the planned PEIS, would be required prior to construction of any facilities.

The proposed action was developed based upon national and Department of Defense laws, directives, and policies. Successful implementation of the proposed action would be the first step to provide additional non-hydrocarbon based power generation that will help the Navy meet its renewable energy goals established by the President of the United States, the Secretary of Defense, and the Secretary of Navy. Development would be undertaken by a third-party contractor using a Public/Private Venture contracting mechanism. This business model has been successfully demonstrated with other geothermal projects.

The Navy considered a range of alternatives and has developed preliminary alternatives based on issues, concerns, and opportunities identified from previous experience with geothermal development on Navy lands, public scoping comments, collaboration with interdisciplinary professionals from the Navy and BLM, and collaboration with interested agencies. Three alternatives are expected to be considered in this PEIS at this time:

1. Initiate Geothermal Development Program in Project Area;

2 Initiate Geothermal Development Program in Reduced Project Area;

3. No Action Alternative.

Additional or revised alternatives may be developed out of the impact analysis and might be designed to avoid or reduce adverse impacts while still meeting the purpose and need for the proposed action. As an example, an alternative might be developed to avoid possible land use conflicts, or to prevent ultimate development near areas of sensitive resources.

The PEIS will address potential direct, indirect, short term, long term, and cumulative impacts to the human and natural environment, to include potential impacts to topography, geology, soils, water resources, biological resources, air quality, noise, infrastructure and utilities, traffic, cultural resources, land use, socioeconomics, environmental justice, and hazardous waste and materials.

The Navy is initiating the scoping process to identify community concerns and issues that should be addressed in the PEIS. The Navy is inviting written comments and suggestions on the scope of the analysis for the PEIS. Agencies and the public are encouraged to provide written comments in addition to, or in lieu of, oral comments at scheduled public scoping meetings. Comments should clearly describe specific issues or topics that the PEIS should address. Written comments must be postmarked by midnight July 5, 2008 and should be submitted to: Mr. Steven Bjornstad, Geothermal Program Office (ESC-25), Naval Air Weapons Station, 429 East Bowen Road, Mail Stop 4011, China Lake, CA 93555-6108. Comments will also be accepted by midnight July 5, 2008 on the project Web site at http://www.superstitionmountaineis.com.

Dated: April 30, 2008.
T.M. Cruz,
Lieutenant, Judge Advocate General's Corps, U.S. Navy, Federal Register Liaison Officer.

[FR Doc. E8-9843 Filed 5-2-08; 8:45 am]

BILLING CODE 3810-FF-P